ENVIRONMENTAL PROTECTION AGENCY

[ER-FRL-8586-7]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146.

An explanation of the ratings assigned to draft environmental impact statements (EISs) was published in FR dated April 6, 2008 (73 FR 19833).

Draft EISs

EIS No. 20080167, ERP No. D-COE-J35011-CO, Northern Integrated Supply Project, Construction and Operation a Regional Water Supply to Serve the Current and Future Water Needs of 12 Towns and Water District, Approval of Section 404 Permit Application, Northern Colorado Water Conservancy District, Larimer and Weld Counties, CO.

Summary: EPA expressed environmental objections to the proposed action alternatives due to the potential for substantial and unacceptable impacts to the Poudre and South Platte Rivers, and expressed concern that the DEIS may not contain sufficient information to fully assess the potential water quality and wetland impacts of the proposed action alternatives. Rating EO2.

EIS No. 20080304, ERP No. D-NOA-E91025-00, Reef Fish Amendment 30B: Gag-End Overfishing and Set Management Thresholds and Targets; Red Grouper—Set Optimum Yield, Total Allowable Catch (TAC), and Management Measures: Area Closures: and Federal Regulatory Compliance, Implementation, Gulf of Mexico.

Summary: EPA does not object to the preferred alternative. Rating LO.

EIS No. 20080312, ERP No. D-FHW-E40821-SC, Southern Evacuation Lifeline Project, Proposed New Location Freeway Which Would Provide Improved Hurricane Evacuation, Congestion Relief, Improved Access to Services East and West of the Waccamaw River, Horry and Georgetown Counties, SC.

Summary: EPA expressed environmental concerns about significant wetland impacts and recommends that further measures be considered to avoid and minimize these wetland and stream impacts. In addition, more information about the mitigation approach for the remaining wetland and stream impacts was requested. Rating EC2.

EIS No. 20080227, ERP No. DA-TPT-K61154-CA, Presidio Trust Management Plan (PTMP), Updated Information on the Concept for the 120-Acre Main Post District, Area B of the Presidio of San Francisco, Implementation, City and County of San Francisco, CA.

Summary: EPA does not object to the proposed project. Rating LO.

EIS No. 20080320, ERP No. DS-NOA-K91008-00, Amendment 18 to the Fishery Management Plan, Pelagic Fisheries of the Western Pacific Region, Management Modifications for the Hawaii-based Shallow-set Longline Swordfish Fishery, Proposal to Remove Effort Limits, Eliminate the Set Certificate Program and Implement New Sea Turtle Interaction Caps.

Summary: EPA expressed environmental concerns about impacts to sea turtles and requested additional information on impact assessment methodology and how cumulative impacts to sea turtles were factored into the conclusions. Rating EC2.

Final EISs

EIS No. 20080248, ERP No. F-AFS-L65534-ID, Idaho Cobalt Project, Development of Two Underground Mines, a Waste Disposal Site and Associated Facilities, Approval of Plan-of-Operation, Salmon-Cobalt Ranger District, Salmon-Challis National Forest, Lemhi County, ID.

Summary: EPA continues to have environmental concerns about the lack of information on financial assurance that we requested be in the FEIS and about the lack of specificity on trigger levels for monitoring and mitigation measures.

EIS No. 20080307, ERP No. F-AFS-L65552-OR, East Maury Fuels and Vegetation Management Project, Proposed Fuels and Vegetation Treatments Reduce the Risk of Stand Loss, Lookout Mountain Ranger District, Ochoco National Forest, Crook County, OR.

Summary: EPA continues to have environmental concerns about the need for monitoring and maintenance of culverts on closed roads to prevent passage barriers for fish, erosion and sedimentation problems.

EIS No. 20080311, ERP No. F-FTA-J40173-CO, Denver Union Station (DUS) Project, Transportation Improvement, Multimodal Transportation Center for the Metro Denver Region, Funding and NPDES Permit, City and County Denver, CO.

Summary: EPA recommends that mitigation measures for air quality construction impacts from the proposed project be listed in the ROD as construction specification requirements and that the ROD also include measures ensuring minimization of NOX and VOC levels.

EIS No. 20080329, ERP No. F-AFS-G65107-NM, Santa Fe National Forest Project, Settlement Land Transfers: Pueblo de San lldefonso, Pueblo of Santa Clara and Los Alamos County, Implementation, Santa Fe National Forest, Los Alamos, Rio Arriba and Santa Fe Counties, NM.

Summary: No comment letter was sent to the preparing agency.

EIS No. 20080332, ERP No. F-FHW-L40227-WA, Interstate 90 Snoqualmie Pass East Project, Proposes to Improve a 15-mile Portion of I-90 from Milepost 55.10 in Hyak to Milepost 70.3 New Easton, Funding, U.S. Army COE Section 404 Permit and NPDES Permit, Kittitas County, WA.

Summary: EPA does not object to the proposed action.

EIS No. 20080334, ERP No. F-NOA-A91074-00, North Atlantic Right Whale Ship Strike Reduction Strategy, To Implement the Operational Measures to Reduce the Occurrence and Severity of Vessel Collisions with the Right Whale, Serious Injury and Deaths Resulting from Collisions with Vessels.

Summary: EPA has no objection to the proposed action.

EIS No. 20080341, ERP No. F-AFS-L65546-ID, Idaho Roadless Area Conservation Project, To Provide State-Specific Direction for the Conservation and Management of Inventoried Roadless Areas, National Forest System Lands in Idaho.

Summary: The final EIS addressed EPA's concerns about adverse impacts to water quality, the disposition of temporary roads and the definition of significant risk.

EIS No. 20080342, ERP No. F-AFS-J65516-WY, Inyan Kara Analysis Area Vegetation Management, Proposes to Implement Best Management Livestock Grazing Practices and Activities Associated with Adaptive Management and Monitoring Strategies, Douglas Ranger District, Medicine Bow Routt National Forest and Thunder Basin National Grassland, Niobrara and Weston Counties, WY.

Summary: While the Final EIS did address EPA's environmental general concerns with water quality and adaptive management, we continue to have environmental concerns about the level of water resource protection from grazing impacts under drought conditions.

Dated: October 14, 2008.
Ken Mittelholtz,
Environmental Protection Specialist, Office of Federal Activities.

[FR Doc. E8-24811 Filed 10-16-08; 8:45 am]

BILLING CODE 6560-50-P